DEPARTMENT OF ENERGY

Federal Energy Regulatory Commission

Combined Notice of Filings

Take notice that the Commission has received the following Natural Gas Pipeline Rate and Refund Report filings:

Filings Instituting Proceedings

Docket Numbers: RP12-289-000.

Applicants: Natural Gas Pipeline Company of America LLC.

Description: Removal of Expired Agreements to be effective 2/4/2012.

Filed Date: 1/4/12.

Accession Number: 20120104-5072.

Comments Due: 5 p.m. ET 1/17/12.

Docket Numbers: RP12-290-000.

Applicants: Algonquin Gas Transmission, LLC.

Description: submits tariff filing per 154.204: Amended Excelerate Negotiated Rate to be effective 1/1/2012.

Filed Date: 1/4/12.

Accession Number: 20120104-5144.

Comments Due: 5 p.m. ET 1/17/12.

Docket Numbers: RP12-291-000.

Applicants: High Island Offshore System, L.L.C.

Description: 2011 Fuel Interim Adjustment to be effective 2/1/2012.

Filed Date: 1/5/12.

Accession Number: 20120105-5052.

Comments Due: 5 p.m. ET 1/17/12.

Docket Numbers: RP10-1185-000.

Applicants: Tennessee Gas Pipeline Company.

Description: Supplemental Information/Request of Tennessee Gas Pipeline Company, L.L.C.

Filed Date: 10/18/11.

Accession Number: 20111018-5078.

Comments Due: 5 p.m. ET 01/12/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-15-003.

Applicants: Gas Transmission Northwest LLC.

Description: Reservation Credit Compliance to RP12-15 to be effective 1/12/2012.

Filed Date: 1/4/12.

Accession Number: 20120104-5099.

Comments Due: 5 p.m. ET 1/17/12.

Docket Numbers: RP11-2254-001.

Applicants: Midwestern Gas Transmission Company.

Description: submits tariff filing per 154.203: Motion to Place into Effect Part 5.0 and Part 8.32 to be effective 1/5/2012.

Filed Date: 1/6/12.

Accession Number: 20120106-5001.

Comments Due: 5 p.m. ET 1/18/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 6, 2012.
Nathaniel J. Davis, Sr.
Deputy Secretary

[FR Doc. 2012-412 Filed 1-11-12; 8:45 am]

BILLING CODE 6717-01-P